POSTAL SERVICE

39 CFR Part 111

Domestic Shipping Services Pricing and Mailing Standards Changes

AGENCY: Postal Service™.

ACTION: Final rule.

SUMMARY: The Postal Service is revising Mailing Standards of the United States Postal Service, Domestic Mail Manual (DMM®), to reflect changes to prices and mailing standards for the following Shipping Services: Express Mail®; Priority Mail®; Parcel Select®; Recipient Services.

DATES: Effective Date: January 2, 2011.

FOR FURTHER INFORMATION CONTACT: John Gullo (202) 268-8057 or Carol A. Lunkins (202) 268-7262.

SUPPLEMENTARY INFORMATION: This final rule describes new prices and product features for Shipping Services, by class of mail, established by the Governors of the United States Postal Service®. New prices are located on the Postal Explorer® Web site at http://pe.usps.com.

General

The Postal Service revises the procedure for determining single-piece weight for all classes of mail. When computing and determining single-piece prices based on weight, express all weights in decimal pounds rounded off to two decimal places instead of four decimal places. Mailers using the Electronic Verification System (eVS®) may round off to four decimals, and eVS will automatically round to the appropriate decimal place. If a mailer is using a manifest mailing system (MMS), the manifest weight field must be properly completed by adhering to the rules relative to the specific MMS.

Express Mail

The Postal Service implements Express Mail structural revisions and expands product offerings for retail, commercial base, and commercial plus categories.

Express Mail Revisions

Express Mail revisions include: Calculation of postage, IBI postage meter eligibility, and a reduction in account volume thresholds.

Calculating Postage

When computing and determining Express Mail single-piece prices based on weight, express all weights in decimal pounds rounded off to two decimal places instead of four decimal places.

IBI Postage Meters

For Express Mail commercial base prices, customers using USPS®-approved Information-Based Indicia (IBI) postage meters must print the IBI with the appropriate price marking (“Commercial Base Price,” “Commercial Base Pricing,” or “ComBasPrice”) and electronically transmit transactional data to USPS. Also, each mailpiece must bear an approved Express Mail shipping label.

IBI postage meters that do not print the IBI with the appropriate price marking and electronically transmit transactional data to USPS no longer qualify for commercial base prices.

Account Volume Thresholds

The Express Mail commercial plus cumulative account volume threshold is lowered from 6,000 pieces in the previous four quarters to 5,000 pieces and is available for customers whose cumulative account volume exceeds 5,000 pieces or who have a customer commitment agreement with USPS.

New Express Mail Offerings

New Express Mail offerings include: Express Mail Legal Flat Rate Envelope and commercial plus prices for customers using IBI postage meters.

Express Mail Legal Flat Rate Envelope

Express Mail flat-rate options are expanded to include a new Legal Flat Rate Envelope which is available to retail, commercial base, and commercial plus customers. The USPS-produced Legal Flat Rate Envelope is not available at retail Post Office locations but may be ordered online at http://www.usps.com/shop.

Express Mail Commercial Plus Prices—IBI Postage Meters

Express Mail commercial plus pricing is now available for customers using USPS-approved IBI postage meters when the following conditions are met:

• IBI postage meters must print the appropriate price marking (“Commercial Plus Price,” “Commercial Plus Pricing,” or “ComPlsPrice”).

• IBI postage meters must electronically transmit transactional data daily to USPS for all mailpieces and mail categories.

• The cumulative account volume must exceed 5,000 pieces in the previous four quarters or who have a customer commitment agreement with USPS.

• Each item must bear an approved Express Mail shipping label.

Priority Mail

The Postal Service implements Priority Mail structural revisions and expands product offerings for retail, commercial base, and commercial plus categories.

Priority Mail Revisions

Priority Mail revisions include: flat-rate pricing of Priority Mail envelopes smaller than 12.5″ x 9.5″; defining eligible Priority Mail envelopes; and calculation of postage.

Price Application

All domestic USPS-produced Priority Mail envelopes smaller than 12.5″ x 9.5″ will be priced the same as the regular Priority Mail Flat Rate Envelope including envelopes that do not bear the wording, “Flat Rate Envelope.”

Eligibility

The Priority Mail Flat Rate Envelope options are expanded to include the following: Gift Card Flat Rate Envelope, Window Flat Rate Envelope, and Small Flat Rate Envelope.

Calculating Postage

When computing and determining Priority Mail single-piece prices based on weight, express all weights in decimal pounds rounded off to two decimal places instead of four decimal places.

New Priority Mail Offerings

New Priority Mail offerings include: Priority Mail Legal Flat Rate Envelope, Priority Mail Padded Flat Rate Envelope, and Hold For Pickup service.

Priority Mail Legal Flat Rate Envelope

The Priority Mail Legal Flat Rate Envelope (15″ x 9.5″) is available for retail, commercial base, and commercial plus customers. All postage payment methods per price category and extra services available for Priority Mail are available with this offering. The USPS-produced Priority Mail Legal Flat Rate Envelope is not available at retail Post Office locations but may be ordered online at http://www.usps.com/shop.

Priority Mail Padded Flat Rate Envelope

The Priority Mail Padded Flat Rate Envelope (12.5″ x 9.5″) previously available only for commercial plus customers is now available to retail and commercial base customers. All postage payment methods per price category (including BRM pieces returned at Priority Mail prices) are available with this offering; all extra services available for Priority Mail are available with this offering with the exception of Registered Mail™ service. The USPS-produced Priority Mail Padded Flat Rate Envelope is not available at retail Post Office locations but may be ordered online at http://www.usps.com/shop.

Hold For Pickup

Hold For Pickup service is available for all online and commercial Priority Mail except Critical Mail™. For detailed information, see the section below entitled, “Hold For Pickup.”

Priority Mail Commercial Base

Priority Mail commercial base revisions include: IBI postage meters and postal routing barcodes.

IBI Postage Meters

Customers using USPS-approved IBI postage meters must print the IBI with the appropriate price marking (“Commercial Base Price,” “Commercial Base Pricing,” or “ComBasPrice”) and electronically transmit transactional data to USPS.

IBI postage meters that do not print the IBI with the appropriate price marking and electronically transmit transactional data to USPS will no longer qualify for commercial base prices.

Postal Routing Barcodes

For Priority Mail commercial base prices, the Postal Service has eliminated the requirement for a postal routing barcode when paying postage with permit imprint.

New Priority Mail Commercial Base Offerings

New Priority Mail commercial base offerings include: Priority Mail Legal Flat Rate Envelope, Priority Mail Padded Flat Rate Envelope, and Priority Mail Regional Rate Box.

Priority Mail Legal Flat Rate Envelope

The Priority Mail Legal Flat Rate Envelope (15″ x 9.5″) is available for commercial base customers. All postage payments methods and extra services available for commercial base Priority Mail are available with this offering.

Priority Mail Padded Flat Rate Envelope

The Priority Mail Padded Flat Rate Envelope (12.5″ x 9.5″) is now available for commercial base customers. All postage payment methods (including BRM pieces returned at Priority Mail prices) and extra services available for commercial base Priority Mail are available with this offering with the exception of Registered Mail service.

Priority Mail Regional Rate Box

Description

The Priority Mail Regional Rate Box is a new product offering available for Priority Mail commercial parcels and Merchandise Return Service (MRS) parcels returned at Priority Mail prices. The Regional Rate Box is available for Priority Mail commercial base and commercial plus customers. This offering is not available for mailers using BRM, Parcel Return Service (PRS), or for customers who pay postage at retail Post Office™ locations.

Eligibility

Customers must use USPS-produced Priority Mail Regional Rate Boxes to qualify for Regional Rate Box prices.

Price Application

Priority Mail Regional Rate Box prices are based on USPS-produced “Box A” or “Box B” and the destination zone. If the Priority Mail Regional Rate Box exceeds the maximum weight for that particular box, Priority Mail commercial base or commercial plus (volume thresholds apply) prices will be assessed based on weight and zone.

Options

There are two Regional Rate Box types “A” and “B” which include two loading options:

• Box A (top loading or side loading) has a 15-pound maximum weight limit.

• Box B (top loading or side loading) has a 20-pound maximum weight limit.

Account Volume Threshold

No minimum volume threshold applies, except the permit imprint requirement of 200 pieces or 50 pounds of mail.

Extra Services

All extra services that are available with Priority Mail may be used with the Regional Rate Box.

Postage Payment Methods

Priority Mail Regional Rate Box prices are available to Priority Mail customers that are:

• Customers using Click-N-Ship service.

• Registered end-users of USPS-approved PC Postage products when using a qualifying shipping label managed by the PC Postage system used.

• Customers using permit imprint.

• Customers using USPS-approved IBI postage meters that print the IBI with the appropriate price marking (“Commercial Base Price,” “Commercial Base Pricing,” or “ComBasPrice”) and electronically transmit transactional data to USPS.

• Permit holders using MRS for Priority Mail pieces when all MRS requirements are met.

• Commercial plus customers meeting Priority Mail commercial plus account volume and postage payment requirements.

Packaging

USPS-produced Priority Mail Regional Rate Boxes must be used only for Priority Mail Regional Rate Box service. Customers may order these boxes online at http://www.usps.com/shop.

Priority Mail Commercial Plus

The Postal Service implements Priority Mail commercial plus structural revisions and expands product offerings to include: New and revised account volume thresholds; the availability of commercial plus prices for customers who pay postage using IBI postage meters; and the requirement to use a postal routing barcode.

Account Volume Thresholds

Unless customers have a customer commitment agreement with USPS, the availability of commercial plus prices require minimum volumes as follows:

• Letters & Flats: The cumulative account volume must exceed 5,000 letter-size and flat-size (including Flat Rate Envelopes) pieces in the previous calendar year. Padded Flat Rate Envelopes may not be included to meet the cumulative account volume.

• Overall: The cumulative account volume must exceed 75,000 total pieces (letters, flats, and parcels) in the previous calendar year. This threshold is reduced from 100,000 to 75,000 total pieces.

IBI Postage Meters

Priority Mail Commercial Plus, except Cubic and Critical Mail, pricing is now available to customers who use USPS-approved IBI postage meters that print the IBI with the appropriate price marking (“Commercial Plus Price,” “Commercial Plus Pricing,” or “ComPlsPrice”), electronically transmit transactional data daily to USPS for all mailpieces and mail categories, and meet the cumulative account volumes listed above.

Postal Routing Barcode

The Postal Service has eliminated the requirement for a postal routing barcode for Priority Mail commercial plus pieces when paying postage with permit imprint.

New Priority Mail Commercial Plus Offerings

Priority Mail new commercial plus product offerings include: Priority Mail Legal Flat Rate Envelope and Critical Mail.

Priority Mail Legal Flat Rate Envelope

The new Priority Mail Legal Flat Rate Envelope, which is 15″ x 9.5″ in size, is available for commercial plus customers who meet Priority Mail commercial plus volume requirements and pay postage with authorized postage payment methods. All extra services available for commercial plus Priority Mail are available with this offering.

Critical Mail

Description

Critical Mail is a new shipping option for Priority Mail commercial plus mailers. This new product is a category of Priority Mail and is available for automation-compatible letters and automation flats bearing Intelligent Mail® barcodes (IMb™). Delivery Confirmation™ service (electronic option), which allows mailers to confirm delivery, is included at no additional cost.

Price Application

Critical Mail pieces are charged a flat rate regardless of domestic destination or weight for automation-compatible letters up to 3 ounces and automation-compatible flats up to 13 ounces. Critical Mail entered as letter-size envelopes that exceed 3 ounces, ¼-inch thickness, or do not meet automation letter standards will be charged the Priority Mail Commercial Plus Flat Rate Envelope price. Critical Mail entered as flat-size envelopes that exceed 13 ounces, ¾-inch thickness, or do not meet the standards for automation flats will be charged the Priority Mail Commercial Plus Flat Rate Envelope price. Critical Mail envelopes are provided free of charge by USPS and must be used only for Critical Mail.

Eligibility

Each mailpiece must be either an automation-compatible letter or automation flat, bear an accurate IMb with the correct routing code that represents the finest depth of sort achieved in the address matching process, and meet the following criteria:

• Critical Mail letters must not exceed 3 ounces in weight and ¼-inch thickness.

• Critical Mail flats must not exceed 13 ounces in weight and ¾-inch thickness.

Account Volume Threshold

Critical Mail prices are available to mailers whose Priority Mail account volumes exceed 5,000 letter-size and flat-size (including Flat Rate Envelopes, but not the Padded Flat Rate Envelope) mailpieces in the previous calendar year or who have a customer commitment agreement with USPS.

Authorization

To qualify for Critical Mail prices, all customers must have a customer commitment agreement with USPS. Customers must contact their account manager or the Manager, Shipping Support, Shipping Services.

Additionally, USPS-produced Critical Mail envelopes must be used and mailpieces must be authorized by USPS Manager, Integrated Business Solutions. Prior to the first mailing of Critical Mail, 10 mailpiece samples must be provided to USPS Manager, Integrated Business Solutions or designee for review and approval. Mailpiece samples must be packaged in USPS-produced Critical Mail letter-size or flat-size envelopes; include the full range of the proposed contents that will be shipped; and bear applicable labels and barcodes, i.e. Intelligent Mail barcodes (IMb), Delivery Confirmation labels, and Signature Confirmation™ labels, etc.

Extra Services

The following extra services may be used with Critical Mail service: Insured mail, Signature Confirmation, and Delivery Confirmation.

Postage Payment Methods

The following postage payment methods are available to Critical Mail customers whose letter-size or flat-size Priority Mail or Critical Mail volume (including Flat Rate Envelopes, but not the Padded Flat Rate Envelope) exceeds 5,000 pieces in the previous calendar year, or who have a customer commitment agreement. Prices are available to:

• Registered end-users of USPS-approved PC Postage® products.

• Customers using permit imprint.

Markings

When using a mail category on Critical Mail pieces paid with permit imprint, the mailpiece must bear the mail category, “Critical Mail.” This marking must be placed in the permit imprint indicia. In addition, all other required wording must be placed in the indicia as applicable, i.e. “U.S. Postage Paid,” city and state, and permit number.

Preparation & Packaging

When shipping Critical Mail items, customers are required to use only USPS-produced Critical Mail envelopes. Critical Mail envelopes are provided by USPS and must be used only for Critical Mail. Authorized customers may order these envelopes online at http://www.usps.com/shop.

The sender's domestic return address must appear legibly on the side of the mailpiece bearing postage. When manifested, Critical Mail and Priority Mail may be entered on the same postage statement, but mailpieces must be presented separately and may not be combined or commingled in the same container.

When mailing 200 or more Critical Mail letters or flats, trays must be labeled according to automation standards and the following conditions must be met:

Letters

• Letters must be prepared in USPS-provided letter trays; “faced” (oriented with all addresses in the same direction with the postage area in the upper right) in trays; and trays must be covered with sleeves.

Flats

• Flats must be prepared in USPS-provided flat trays; positioned in trays with addresses facing upward in the same direction; trays must be covered with green lids; strapped, and not exceed 70 pounds.

Pickup & Acceptance

Critical Mail may be accepted and deposited as follows: Mailings with postage paid by PC Postage may be deposited in collection boxes (except for mailings of 200 or more pieces); provided to a carrier via Carrier Pickup™ service, Pickup on Demand service, or entered at Post Office locations. For permit imprint mailings, unless eVS is used, postage statements must be electronically submitted; all mailings must be deposited and accepted at the Post Office that issued the permit at a time and place designated by the postmaster, except as otherwise provided for eVS® or plant-verified drop shipments.

Priority Mail Commercial Plus Cubic

The Postal Service revises the Priority Mail commercial plus cubic requirements to include: Eligibility and mailpiece compatibility with our processing equipment; calculation of postage; availability of commercial plus cubic prices to MRS customers; and use of preprinted dimensions printed on USPS-produced packaging.

Eligibility

Rolls or tubes are not eligible for commercial plus cubic prices. Additionally, each eligible mailpiece must measure 0.50 cubic foot or less, weigh 20 pounds or less, and the longest dimension cannot exceed 18 inches in length. A customer's cumulative account volume remains unchanged and must exceed 250,000 pieces or the customer must have a customer commitment agreement with USPS.

Calculating Postage

When measuring pieces to calculate pricing tiers, any fraction of a measurement is rounded down to the nearest 0.25 inch instead of rounding off each measurement to the nearest whole inch.

Merchandise Return Service

Commercial Plus Cubic prices will now be available for customers using MRS parcels returned at Priority Mail prices, who qualify for commercial base prices, and whose account volumes exceed 250,000 pieces in the previous calendar year or who have a customer commitment agreement with USPS.

Packaging

When USPS-produced packaging is used for Commercial Plus Cubic mailings, the preprinted cubic size printed on the packaging must be used when calculating postage. If USPS-produced packaging does not include the cubic size, the standard calculation should be used to determine the cubic size. Matter mailed in Priority Mail flat-rate packaging is not eligible for commercial plus cubic prices.

Parcel Select

The Postal Service revises Parcel Select standards to include: Hold For Pickup service, zoned 1-pound parcels prices, and the calculation of postage.

Hold For Pickup

Parcel Select Hold For Pickup service is limited to barcoded, nonpresorted parcels. For detailed information, see the section below on Hold For Pickup.

1-Pound Price

The 1-pound price for Parcel Select parcels is priced according to weight and the applicable zone. Previously, the price for all 1-pound parcels was the same across all zones.

Calculating Postage

When computing and determining single-piece prices based on weight, express all weights in decimal pounds rounded off to two decimal places instead of four decimal places.

Recipient Services

The Postal Service revises recipient services to include: Post Office Box and Hold For Pickup services.

Post Office Box Service

On June 17, 2010, the Postal Regulatory Commission approved the Postal Service's request to move Post Office (PO) Boxes in 49 retail Post Office locations to the competitive (Shipping Services) product list.

As part of the Shipping Services price change, PO Box™ fees in these 49 locations will be priced under a new fee group designated as Group C1.

New customers who rent PO Box service in Group C1 will not be required to pay a key deposit fee for the first two keys. If additional keys are requested, the key duplication fee will be charged.

New customers in Group C1 who pay for a 12-month rental period in advance will be given an additional month rental, at no extra charge, for a total of 13 months.

Hold For Pickup Service

The Postal Service expands Hold For Pickup service to include all online and commercial Priority Mail (except Critical Mail) and First-Class Mail commercial parcels. In addition, Parcel Select Hold For Pickup service is limited to barcoded, nonpresorted parcels.

Description

Hold For Pickup service allows mailpieces to be held at a designated Post Office location for pick up by a specified addressee or designee. Upon arrival of the mailpiece at the destination Post Office pickup location, the addressee will receive an email notification from the Postal Service. If the mailpiece has not been picked up within 5 days, the Post Office will make a second attempt to notify the addressee. If the package has not been picked up within 15 days, the mailpiece will be returned to the sender.

Eligibility

To qualify for Hold For Pickup, at a minimum, one of the authorized extra services must be combined with this offering, and all mailpieces must bear the Hold For Pickup label with an Intelligent Mail package barcode (IMpb) encoded with a correct ZIP+4 Code, matching the address and meeting the standards in 708.5.0, except for Express Mail not paid through the eVS.

For more detailed information regarding the IMpb, mailers may reference the addendum to Publication 91, Addendum for Intelligent Mail Package Barcode (IMpb) and 3-Digit Service Type Code, which may be accessed on the RIBBS® Web site at ribbs.usps.gov.

Options

There are two options for Hold For Pickup service:

• Retail option: Available at Post Office pickup locations for Express Mail only at the time of mailing.

• Electronic option: Available for Express Mail, Priority Mail (except Critical Mail), First-Class Mail parcels, and Parcel Select barcoded, nonpresorted parcels. Except for Express Mail, mailers must establish an electronic link with USPS to exchange acceptance and delivery data. No mailing receipt is provided with this option.

Extra Services

At least one of the following extra services must be combined with Hold For Pickup service: Insured mail, Delivery Confirmation, or Signature Confirmation. If adding insurance for $200 or less, one of the other authorized extra services must also be added.

Postage Payment Methods

Hold For Pickup service is available for customers using the following postage payment methods: Click-N-Ship, permit imprint, IBI postage meters, and USPS-approved PC Postage products when registered end-users use a qualifying shipping label managed by the PC Postage system used.

Resources

The Postal Service provides additional resources to assist customers with this price change for Shipping Services. These tools include price lists, downloadable price files, and domestic and international Federal Register Notices, which may be found on the Postal Explorer Web site at http://pe.usps.com.

In addition, IMpb requirements may be referenced by viewing the Barcode, Package, Intelligent Mail (USPS2000508) Specification and Publication 91, Addendum for Intelligent Mail Package Barcode (IMpb) and 3-Digit Service Type Code, which may be accessed in Intelligent Mail Services on the RIBBS® Web site at http://ribbs.usps.gov.

The Postal Service adopts the following changes to Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

100 Retail Letters, Cards, Flats, and Parcels

* * * * *

110 Express Mail

113 Prices and Eligibility

1.0 Express Mail Prices and Fees

1.1 Prices Charged Per Piece

[Revise 1.1 as follows:]

Express Mail postage is charged for each addressed piece according to its weight and zone, except under 1.4.

1.2 Price Application

[Revise the first and last sentences of 1.2 by making envelope plural as follows:]

Except under 1.4, Flat Rate Envelopes, * * * Except for Express Mail Flat Rate Envelopes, Express Mail prices are based on weight and zone.

* * * * *

[Revise title text of item 1.4 by making envelope plural as follows:]

1.4 Flat Rate Envelopes

[Revise 1.4 by adding two subsections 1.4.1 and 1.4.2 as follows:]

1.4.1 Flat Rate Envelopes—Eligibility

Material mailed in USPS-provided Express Mail Flat Rate Envelopes is charged a flat rate, regardless of the actual weight (up to 70 pounds) of the mailpiece or domestic destination. Only USPS-produced Flat Rate Envelopes are eligible for the Flat Rate Envelope price. Custom Designed items are not eligible for flat-rate pricing. When sealing a Flat Rate Envelope, the container flaps must be able to close within the normal folds. Tape may be applied to the flaps and seams to reinforce the container provided the design of the container is not enlarged by opening the sides, and the container is not reconstructed in any way.

1.4.2 Flat Rate Envelopes—Price Eligibility

There are two types of USPS-produced Express Mail Flat Rate Envelopes: A regular-size envelope and a legal-size envelope. Each type of USPS-produced Express Mail Flat Rate Envelope is priced at a flat rate regardless of the actual weight (up to 70 pounds) of the mailpiece or domestic destination. See Notice 123—Price List for prices.

* * * * *

1.7 Computing Postage

[Revise paragraph of 1.7 as follows:]

For each addressed mailpiece, determine single-piece price based on weight and zone under 1.1; express all weights in decimal pounds rounded off to two decimal places. For Express Mail, affix postage to each piece under 114.1.2, Affixing Postage—Single-Piece Mailings.

* * * * *

115 Mail Preparation

1.0 Express Mail Supplies

1.1 Packaging Provided by USPS

[Add new last sentence to item 1.1 as follows:]

* * * The USPS-produced Express Mail Legal Flat Rate Envelope is not available at retail Post Office locations but may be ordered online at http://www.usps.com/shop.

* * * * *

120 Priority Mail

123 Prices and Eligibility

1.0 Priority Mail Prices and Fees

1.1 Price Application

[Revise paragraph of 1.1 as follows:]

Except under 1.3, 1.4, and 1.5, Priority Mail retail prices are based on weight and zone and are charged per pound; any fraction of a pound is rounded up to the next whole pound. For example, if a piece weighs 1.2 pounds, the weight (postage) increment is 2 pounds. The minimum postage amount per addressed piece is the 1-pound price. Other charges may apply.

* * * * *

[Revise the title of 1.5 to make envelope plural as follows:]

1.5 Flat Rate Envelopes and Boxes

* * * * *

[Revise the title of 1.5.1 to make envelope plural as follows:]

1.5.1 Flat Rate Envelopes—Price and Eligibility

[Revise text of 1.5.1 as follows:]

All USPS-produced Priority Mail envelopes smaller than the EP14F envelope (9.5 inches by 12.5 inches) are eligible for the Priority Mail Flat Rate Envelope price whether or not they are marked “Flat Rate Envelope.” Each type of USPS-produced Priority Mail Flat Rate Envelope is priced at a flat rate regardless of the actual weight (up to 70 pounds) of the mailpiece or domestic destination. See Notice 123—Price List for applicable prices.

* * * * *

1.9 Determining Single-Piece Weight

[Revise the last sentence of 1.9 as follows:]

* * * Express all single-piece weights in decimal pounds rounded off to two decimal places.

* * * * *

125 Mail Preparation

1.0 Preparation

1.1 Priority Mail Packaging Provided by the USPS

[Add new last sentence of 1.1 as follows:]

* * * The USPS-produced Priority Mail Legal and Padded Flat Rate Envelopes are not available at retail Post Office locations but may be ordered online at http://www.usps.com/shop.

* * * * *

200 Commercial Letters and Cards

201 Physical Standards

* * * * *

2.0 Physical Standards for Nonmachinable Letters

* * * * *

[Revise the title and text of 2.5 as follows:]

2.5 Express Mail, Priority Mail, and Critical Mail Letters

Mailers are encouraged, but not required, to design and produce Express Mail and Priority Mail letter-size pieces as machinable letters. Critical Mail letter-size pieces (see 223) that do not meet machinable letter standards in 1.0 and 3.0 are not eligible for Critical Mail letter prices, but are eligible for Priority Mail Commercial Plus Flat Rate Envelope prices.

* * * * *

202 Elements on the Face of a Mailpiece

* * * * *

3.0 Placement and Content of Mail Markings

* * * * *

[Revise the title and introductory text of 3.3 as follows: Federal Register]

3.3 Express Mail, Priority Mail, and Critical Mail Markings

Express Mail pieces must be marked “Express Mail,” by using a mailing label according to 215.2.1. Priority Mail pieces must have the basic price marking of “Priority Mail” printed in a prominent location on the address side; see more options in 102.3.1. Critical Mail letters (see 223) have the marking “Critical Mail” preprinted on the USPS-produced packaging. Critical Mail letters with permit imprint postage must have “Critical Mail” as the class of mail in the indicia (under 604.5.) when a class of mail is printed. In addition, except for pieces paid using an Express Mail Corporate Account, permit imprint, Express Mail and Priority Mail pieces claiming commercial base or commercial plus prices also must bear the appropriate commercial price marking, printed on the piece or produced as part of the meter imprint or PC Postage indicia. Place the commercial price marking directly above, directly below, or to the left of the postage. Markings are as follows: * * *

* * * * *

210 Express Mail

213 Prices and Eligibility

1.0 Prices and Fees

* * * * *

1.4 Commercial Plus Prices

[Revise the title and introductory text of 1.4.1 as follows:]

1.4.1 Eligibility

Commercial plus pricing is available to customers whose cumulative account volume exceeds 5,000 pieces in the previous four quarters or who have a customer commitment agreement with USPS (see 1.4.2) and who are:

* * * * *

[Revise 1.4.1 by adding new item “d” as follows:]

d. Customers using USPS-approved IBI postage meters that print the IBI with the appropriate price marking (see 202.3.3) and who electronically transmit transactional data daily to USPS for all mailpieces and mail categories and use an approved Express Mail shipping label.

1.4.2 New Express Mail Customers

[Revise the last sentence of 1.4.2 as follows:]

* * * Shippers must contact their account manager or the manager, Shipping Support, Shipping Services (see 608.8.0 for address) for additional information.

[Revise the title and first sentence of 1.5 as follows:]

1.5 Flat Rate Envelopes

Material mailed in USPS-provided Express Mail Flat Rate Envelopes is charged a flat price, regardless of the actual weight (up to 70 pounds) of the piece or its domestic destination. * * *

* * * * *

[Add new 1.9 as follows:]

1.9 Determining Single-Piece Weight

When determining single-piece weight, express all weights in decimal pounds rounded off to two decimal places (except mailers using eVS). When using a manifest mailing system, the manifest weight field must be properly completed by adhering to the rules relative to the specific manifest.

* * * * *

3.0 Basic Standards for Express Mail

* * * * *

3.2 Matter Closed Against Postal Inspection

[Revise the first two sentences of 3.2 as follows:]

Matter closed against postal inspection includes First-Class Mail, Critical Mail, Priority Mail, and Express Mail. The USPS may open mail other than First-Class Mail, Critical Mail, Priority Mail or Express Mail to determine whether the proper price is paid. * * *

* * * * *

214 Postage Payment and Documentation

1.0 Basic Standards for Postage Payment Options

1.2 Commercial Plus Pricing

[Revise 1.2 as follows:]

Commercial plus Express Mail postage may be paid with:

a. An Express Mail Corporate Account (see 2.0), including federal agency accounts.

b. USPS-approved PC Postage products by registered end-users in conjunction with a qualifying shipping label managed by the PC Postage system used.

c. Permit imprint through the Electronic Verification System (eVS) under 705.2.9.

d. USPS-approved IBI postage meters that print the IBI with the appropriate price marking (see 402.2.1) and transactional data is electronically transmitted daily to USPS for all mailpieces and mail categories with an approved Express Mail shipping label.

* * * * *

220 Priority Mail

223 Prices and Eligibility

1.0 Prices and Fees

* * * * *

1.3 Commercial Plus Prices

1.3.1 Basic Eligibility

[Revise introductory paragraph of 1.3.1 as follows:]

For prices, see Notice 123—Price List. Commercial plus prices are available to Priority Mail customers who qualify for commercial base prices and whose cumulative account volume exceeds 5,000 letter-size and flat-size pieces or 75,000 total pieces (see 423) in the previous calendar year (except Priority Mail Open and Distribute) or who have a customer commitment agreement with USPS, and are:

* * * * *

[Add new item 1.3.1e as follows:]

e. Customers using USPS-approved IBI postage meters that print the IBI with the appropriate price marking for commercial price items (202.3.3) and electronically transmit transactional data daily to USPS for all mailpieces and mail categories.

* * * * *

[Renumber current 1.4 through 1.7 as 1.5 through 1.8 and add new 1.4 as follows:]

1.4 Critical Mail Prices

1.4.1 Basic Eligibility

Critical Mail letter-size pieces are charged a flat rate regardless of domestic destination or weight for barcoded, automation-compatible letters up to 3 ounces. Critical Mail letter-size pieces that exceed 3 ounces in weight, exceed ¼ inch thickness, or are not barcoded according to 3.2.1, will be charged the Priority Mail Commercial Plus Flat Rate Envelope price (volume thresholds apply). Critical Mail letter prices are commercial plus prices available to Critical Mail customers whose Priority Mail and Critical Mail volume exceeds 5,000 letter-size and flat-size pieces (including Flat Rate Envelopes, but not the Padded Flat Rate Envelope), in the previous calendar year or who have a customer commitment agreement (see 1.3.4) with USPS, and that are:

a. Registered end-users of USPS-approved PC Postage products when using a qualifying shipping label managed by the PC Postage system used.

b. Permit imprint customers.

1.4.2 New Critical Mail Customers

The following requirements must be met for new Critical Mail customers:

a. All customers using Critical Mail service must have a customer commitment agreement with USPS. Customers must contact their account manager or the Manager, Shipping Support, Shipping Services (see 608.8.0 for address) for agreement requirements.

b. USPS-produced Critical Mail letter-size envelopes must be used and mailpieces must be authorized by the Manager, Integrated Business Solutions, Shipping Services (see 608.8.1 for address). Prior to the first mailing of Critical Mail items, the mailer must provide 10 preproduction mailpiece samples to the Manager, Integrated Business Solutions or designee for review and approval. Sample pieces must be packaged in USPS-produced Critical Mail letter-size envelopes; mailpieces must include the full range of the proposed contents that will be shipped; and mailpieces must bear applicable labels and barcodes (i.e. Intelligent Mail barcodes and Delivery Confirmation labels or Signature Confirmation labels).

1.5 Flat Rate Envelopes—Basic Standards

* * * * *

1.5.2 Flat Rate Envelopes—Price and Eligibility

[Revise newly numbered 1.5.2 as follows:]

All USPS-produced Priority Mail envelopes smaller than the EP14F envelope (9.5 inches by 12.5 inches) are eligible for the Priority Mail Flat Rate Envelope price whether or not they are marked “Flat Rate Envelope.” Each type of USPS-produced Priority Mail Flat Rate Envelope is priced at a flat rate regardless of the actual weight (up to 70 pounds) of the mailpiece or domestic destination. See Notice 123—Price List for applicable prices.

[Renumber new 1.6 through 1.8 as new 1.7 through 1.9 and add new 1.6 Hold For Pickup as follows:]

1.6 Hold For Pickup

Under Hold For Pickup service, Priority Mail items are held at a designated Post Office location for pick up by a specified addressee or designee. Hold For Pickup service is not available for Critical Mail (see 508.7, Hold For Pickup).

* * * * *

1.8 Determining Single-Piece Weight

[Revise the last sentence of renumbered 1.8 and add a new last sentence as follows:]

* * * Express all single-piece weights in decimal pounds rounded off to two decimal places except mailers using eVS. Mailers using eVS may round off to four decimals, and eVS will automatically round to the appropriate decimal place. If a customer is using a manifest mailing system, the manifest weight field must be properly completed by adhering to the rules relative to the specific manifest.

* * * * *

3.0 Basic Standards for Priority Mail

3.1 Definition

Priority Mail is an expedited service and may contain any mailable matter weighing no more than 70 pounds. Lower weight limits apply to some commercial mail parcels under 423.1.0; Critical Mail letters and flats; APO/FPO mail subject to 703.2.0 and 703.4.0 and Department of State mail subject to 703.3.0.

[Renumber current 3.2 through 3.3 as new 3.3 through 3.4.]

[Add new 3.2 as follows:]

3.2 Additional Standards for Critical Mail Letters

3.2.1 Definition

Critical Mail, a category of Priority Mail, is available for barcoded, automation-compatible letters and barcoded, automation flats (see 323.1.4). With the exception of restricted mail as described in 601.8.0, any mailable matter may be mailed via Critical Mail. USPS-produced Critical Mail letter-size envelopes must be used for all Critical Mail letters. Letters may not exceed 3 ounces in weight or ¼ inch thickness. Critical Mail letters also must:

a. Bear an Intelligent Mail barcode with the correct routing code that represents the finest depth of sort achieved in the address matching process, and barcodes must be placed according to 202.5.0.

b. Bear a delivery address that includes the correct ZIP Code, ZIP+4 Code, or numeric equivalent to the delivery point barcode (DPBC) and that meets address quality standards in 233.5.5 and 708.3.0.

3.2.2 Extra Services With Critical Mail Letters

Insured Mail, Delivery Confirmation, and Signature Confirmation are available with Critical Mail pieces. Delivery Confirmation (electronic only) is optional and included at no extra charge for Critical Mail.

* * * * *

3.4 Matter Closed Against Postal Inspection

[Revise the first two sentences of renumbered 3.4 as follows:]

Matter closed against postal inspection includes First-Class Mail, Priority Mail (including Critical Mail), and Express Mail. The USPS may open mail other than First-Class Mail, Priority Mail (including Critical Mail) or Express Mail to determine whether the proper postage is paid. * * *

* * * * *

224 Postage Payment and Documentation

1.0 Basic Standards for Postage Payment

1.1 Postage Payment Options

* * * * *

1.1.2 Commercial Plus Pricing

Commercial plus Priority Mail may be paid with:

[Add new item d as follows:]

d. USPS-approved IBI postage meters that print the IBI with the appropriate price marking (see 202.3.3) and electronically transmit transactional data daily to USPS for all mailpieces and mail categories.

[Add new item 1.1.3 as follows:]

1.1.3 Critical Mail Pricing

Critical Mail pieces must bear an Intelligent Mail barcode and postage may be paid with:

a. USPS-approved PC Postage products when registered end-users apply a qualifying shipping label managed by the PC Postage system used.

b. Permit imprint.

* * * * *

225 Mail Preparation

1.0 General Information for Mail Preparation

1.1 Priority Mail and Critical Mail Packaging Provided by the USPS

[Revise text of 1.1 as follows:]

Priority Mail packaging provided by the USPS must be used only for Priority Mail. Regardless of how the packaging is reconfigured or how markings may be obliterated, any matter mailed in USPS-provided Priority Mail packaging is charged the appropriate Priority Mail price. Any matter mailed in USPS-produced Critical Mail letter packaging will be charged Critical Mail letter prices only if all applicable standards in 223 are met; otherwise such matter will be charged the Priority Mail Commercial Plus Flat Rate Envelope price.

* * * * *

[Revise the title and text of 2.0 as follows:]

2.0 Markings

The marking “Priority Mail” must be placed prominently on the address side of each piece of Priority Mail. USPS-produced Critical Mail letter envelopes bear the marking “Critical Mail” and must be used for Critical Mail letters. See 202.3.3.

* * * * *

[Add new 4.0 to read as follows:]

4.0 Additional Standards for Preparing Critical Mail Letters

4.1 Preparing Critical Mail Letters in Trays

When mailing 200 or more Critical Mail letters in one mailing, prepare the letters in USPS-provided letter trays with the letters “faced” (oriented with all addresses in the same direction with the postage area in the upper right). Secure and strap letter trays using USPS-provided sleeves. Label trays under the applicable letter tray label standards in 235.4.0 and as follows:

a. Line 1: Use L201; for mail originating in ZIP Code areas in Column A, use “MXD” followed by city, state, and 3-digit ZIP Code prefix in Column C (use “MXD” instead of “OMX” in the destination line and ignore Column B).

b. Line 2: “CRITICAL MAIL LTRS WKG.”

c. Line 3: Office of mailing or mailer information.

4.2 Postage for Critical Mail and Priority Mail

When a manifest mailing system is used, Critical Mail and Priority Mail may be entered on the same postage statement, but mailpieces must be presented separately and may not be combined or commingled in the same container.

226 Enter and Deposit

1.0 Deposit

1.1 General

[Revise the text of 1.1 as follows:]

Mailpieces bearing postage evidencing indicia must be deposited in a collection box (except for mailings of 200 or more Critical Mail letters) or at a postal facility within the ZIP Code shown in the indicia, except as permitted under 2.0 or 604.4.5.3. Permit imprint mail must be presented at a Post Office or USPS acceptance site under 604.5.0 or 705.

* * * * *

2.0 Pickup on Demand Service

[Revise the text of 2.0 as follows:]

Pickup on Demand service (see 507.6.0) is available from designated Post Offices for Priority Mail and Critical Mail letters.

* * * * *

300 Commercial Flats

301 Physical Standards

* * * * *

2.0 Physical Standards for Nonautomation Flats

* * * * *

[Revise title and text of 2.6 as follows:]

2.6 Express Mail, Priority Mail, and Critical Mail Flats

Mailers are encouraged, but not required to design and produce Express Mail and Priority Mail flat-size pieces under the general standards in 1.0 and the automation standards in 3.0. Critical Mail flat-size pieces (see 323) that do not meet the standards for flats in 301.1.0 and 301.3.0 are not eligible for Critical Mail flats prices, but are eligible for Priority Mail Commercial Plus Flat Rate Envelope prices (volume thresholds apply).

* * * * *

302 Elements on the Face of a Mailpiece

* * * * *

3.0 Placement and Content of Mail Markings

[Revise the title and text of 3.1 as follows:]

3.1 Express Mail, Priority Mail, and Critical Mail Markings

Express Mail pieces must be marked “Express Mail,” by using a mailing label according to 315.2.1. Priority Mail pieces must have the basic price marking of “Priority Mail” printed prominently on the address side; see more options in 102.3.1. Critical Mail flats (see 323) have the marking “Critical Mail” preprinted on the USPS-produced packaging. Critical Mail flats with permit imprint postage must have “Critical Mail” in the indicia when a class of mail is printed. In addition, except for pieces paid using an Express Mail Corporate Account or permit imprint, Express Mail and Priority Mail pieces claiming the commercial base or commercial plus price must bear the appropriate commercial price marking, printed on the piece or produced as part of the meter imprint or PC Postage indicia. Place the commercial price marking directly above, directly below, or to the left of the postage. Markings are as follows: * * *

* * * * *

310 Express Mail

313 Prices and Eligibility

1.0 Prices and Fees

* * * * *

1.4 Commercial Plus Prices

[Revise the title and introductory text of 1.4.1 as follows:]

1.4.1 Eligibility

Commercial plus prices are available for customers whose cumulative account volume exceeds 5,000 pieces in the previous four quarters or who have a customer commitment agreement with USPS (see 1.4.2) and who are:

* * * * *

[Revise 1.4.1 by adding new item “d” as follows:]

d. Customers using USPS-approved IBI postage meters that print the IBI with the appropriate price marking (see 302.3.1) and who electronically transmit transactional data daily to USPS for all mailpieces and mail categories and use an approved Express Mail shipping label.

1.4.2 New Express Mail Customers

[Revise the last sentence of 1.4.2 as follows:]

* * * Shippers must contact their account manager or the manager, Shipping Support, Shipping Services (see 608.8.0 for address) for additional information.

[Revise the title and first sentence of the paragraph of 1.5 to make plural as follows:]

1.5 Flat Rate Envelopes

Material mailed in USPS-provided Express Mail Flat Rate Envelopes are charged a flat price, regardless of the actual weight (up to 70 pounds) of the piece or its domestic destination. * * *

* * * * *

[Add new 1.9 as follows:]

1.9 Determining Single-Piece Weight

When determining single-piece weight, express all weights in decimal pounds rounded off to two decimal places (except mailers using eVS). When using a manifest mailing system, the manifest weight field must be properly completed by adhering to the rules relative to the specific manifest.

* * * * *

3.0 Basic Standards for Express Mail

* * * * *

3.2 Matter Closed Against Postal Inspection

[Revise the first two sentences of 3.2 as follows:]

Matter closed against postal inspection includes First-Class Mail, Priority Mail (including Critical Mail), and Express Mail. The USPS may open mail other than First-Class Mail, Priority Mail (including Critical Mail), or Express Mail to determine whether the proper price is paid. * * *

* * * * *

314 Postage Payment and Documentation

1.0 Basic Standards for Postage Payment Options

1.1 Commercial Base Pricing

Commercial base Express Mail postage may be paid with:

[Revise 1.1 by deleting item “c” in its entirety and reallocating items as “d” thru “f” as new c through e.]

* * * * *

[Revised reallocated item d as follows:]

d. USPS-approved IBI postage meters that print the IBI with the appropriate price marking (see 302.3.1) and transactional data is electronically transmitted to USPS with an approved Express Mail shipping label.

1.2 Commercial Plus Pricing

[Revise 1.2 as follows:]

Commercial plus Express Mail postage may be paid with:

a. An Express Mail Corporate Account (see 2.0), including federal agency accounts.

b. USPS-approved PC Postage products by registered end-users in conjunction with a qualifying shipping label managed by the PC Postage system used.

c. Permit imprint through the Electronic Verification System (eVS) under 705.2.9.

d. USPS-approved IBI postage meters that print the IBI with the appropriate price marking (see 402.2.1) and transactional data is electronically transmitted daily to USPS for all mailpieces and mail categories with an approved Express Mail shipping label.

* * * * *

320 Priority Mail

323 Prices and Eligibility

1.0 Prices and Fees

* * * * *

1.3 Commercial Plus Prices

1.3.1 Basic Eligibility

[Revise text of 1.3.1 as follows:]

For prices, see Notice 123—Price List. Commercial plus prices are available to Priority Mail customers who qualify for commercial base prices and whose cumulative account volume exceeds 5,000 letter-size and flat-size pieces or 75,000 total pieces (see 423) in the previous calendar year (except Priority Mail Open and Distribute) or who have a customer commitment agreement with USPS, and are:

* * * * *

[Add new item 1.3.1e as follows:]

e. Customers using USPS-approved IBI postage meters that print the IBI with the appropriate price marking for commercial price items (see 302.3.1) and electronically transmit transactional data daily to USPS for all mailpieces and mail categories.

* * * * *

[Renumber current 1.4 through 1.7 as 1.5 through 1.8 and add new 1.4 as follows:]

1.4 Critical Mail Prices

1.4.1 Basic Eligibility

Critical Mail flat-size pieces are charged a flat rate regardless of domestic destination or weight for barcoded, automation flats up to 13 ounces. Critical Mail flat-size pieces that exceed 13 ounces in weight or exceed ¾ inch thickness, or are not barcoded according to 3.2.1, will be charged the Priority Mail Commercial Plus Flat Rate Envelope price (volume thresholds apply). Critical Mail prices for flats are available to Critical Mail customers whose Priority Mail and Critical Mail volume exceeds 5,000 letter-size and flat-size pieces (including Flat Rate Envelopes, but not the Padded Flat Rate Envelope), in the previous calendar year or who have a customer commitment agreement (see 1.4.2) with USPS, and that are:

a. Registered end-users of USPS-approved PC Postage products when using a qualifying shipping label managed by the PC Postage system used.

b. Permit imprint customers.

1.4.2 New Critical Mail Customers

The following requirements must be met for new Critical Mail customers:

a. All customers using Critical Mail service must have a customer commitment agreement with USPS. Customers must contact their account manager or the Manager, Shipping Support, Shipping Services (see 608.8.0 for address) for agreement requirements.

b. USPS-produced Critical Mail flat-size envelopes must be used and mailpieces must be authorized by the Manager, Integrated Business Solutions, Shipping Services (see 608.8.1 for address). Prior to the first mailing of Critical Mail items, the mailer must provide 10 preproduction mailpiece samples to the Manager, Integrated Business Solutions or designee for review and approval. Sample pieces must be packaged in USPS-produced Critical Mail flat-size envelopes; mailpieces must include the full range of the proposed contents that will be shipped; and mailpieces must bear applicable labels and barcodes (i.e. Intelligent Mail barcodes and Delivery Confirmation labels or Signature Confirmation labels).

* * * * *

[Renumber new 1.6 through 1.8 as new 1.7 through 1.9 and add new 1.6 Hold For Pickup as follows:]

1.6 Hold For Pickup

Under Hold For Pickup service, Priority Mail items are held at a designated Post Office location for pick up by a specified addressee or designee. Hold For Pickup service is not available for Critical Mail (see 508.7, Hold For Pickup).

* * * * *

1.8 Determining Single-Piece Weight

[Revise the last sentence of renumbered 1.8 and add a new last sentence as follows:]

* * * Express all single-piece weights in decimal pounds rounded off to two decimal places except mailers using eVS. Mailers using eVS may round off to four decimals, and eVS will automatically round to the appropriate decimal place. If a customer is using a manifest mailing system, the manifest weight field must be properly completed by adhering to the rules relative to the specific manifest.

* * * * *

3.0 Basic Standards for Priority Mail

3.1 Definition

[Add new second sentence to item 3.1 as follows:]

* * * Lower weight limits apply to some commercial parcels under 423.1.0; Critical Mail letters and flats under 223.1.4 and 323.1.4; APO/FPO mail subject to 703.2.0 and 703.4.0 and Department of State mail subject to 703.3.0.

[Renumber current 3.2 through 3.3 as new 3.3 through 3.4.]

[Add new 3.2 as follows:]

3.2 Additional Standards for Critical Mail Flats

3.2.1 Definition

Critical Mail, a category of Priority Mail, is available for barcoded, automation-compatible letters (see 223.1.3) and barcoded, automation flats. With the exception of restricted mail as described in 601.8.0, any mailable matter may be mailed via Critical Mail. USPS-produced Critical Mail flat-size envelopes must be used for all Critical Mail flats. Flats may not exceed 13 ounces in weight or ¾ inch thickness. Critical Mail flats also must:

c. Bear an Intelligent Mail barcode with the correct routing code that represents the finest depth of sort achieved in the address matching process, and barcodes must be placed according to 302.4.0.

d. Bear a delivery address that includes the correct ZIP Code, ZIP+4 Code, or numeric equivalent to the delivery point barcode (DPBC) and that meets address quality standards in 333.5.5 and 708.3.0.

3.2.2 Extra Services With Critical Mail Flats

Insured Mail, Delivery Confirmation, and Signature Confirmation are available with Critical Mail pieces. Delivery Confirmation (electronic only) is optional and included at no extra charge for Critical Mail.

* * * * *

3.4 Matter Closed Against Postal Inspection

[Revise the first two sentences of renumbered 3.4 as follows:]

Matter closed against postal inspection includes First-Class Mail, Priority Mail (including Critical Mail), and Express Mail. The USPS may open mail other than First-Class Mail, Priority Mail (including Critical Mail) or Express Mail to determine whether the proper postage is paid. * * *

* * * * *

324 Postage Payment and Documentation

1.0 Basic Standards for Postage Payment

1.1 Postage Payment Options

* * * * *

1.1.2 Commercial Plus Pricing

Commercial plus Priority Mail postage may be paid with:

[Add new item 1.1.2d as follows:]

d. USPS-approved IBI postage meters that print the IBI with the appropriate price marking (see 302.3.1) and electronically transmit transactional data daily to USPS for all mailpieces and mail categories.

[Add new 1.1.3 as follows:]

1.1.3 Critical Mail Pricing

Critical Mail pieces must bear an Intelligent Mail barcode and postage may be paid with:

a. USPS-approved PC-Postage products when registered end-users use a qualifying shipping label.

b. Permit imprint.

* * * * *

325 Mail Preparation

1.0 General Information for Mail Preparation

1.1 Priority Mail Packaging Provided by the USPS

[Add new last sentence to item 1.1 as follows:]

* * * Any matter mailed in USPS-produced Critical Mail flat-size packaging will be charged Critical Mail flats prices only if all applicable standards in 323 are met; otherwise such matter will be charged the Priority Mail Commercial Plus Flat Rate Envelope price.

1.2 Required Use of Return Address

[Revise text of 1.2 as follows:]

The sender's domestic return address must appear legibly on Priority Mail and Critical Mail pieces.

[Revise title and text of 2.0 as follows:]

2.0 Markings

The marking “Priority Mail” must be placed prominently on the address side of each piece of Priority Mail. USPS-produced Critical Mail envelopes for flats bear the marking “Critical Mail” and must be used for Critical Mail flats. See 302.3.1.

* * * * *

[Add new 4.0 to read as follows:]

4.0 Additional Standards for Preparing Critical Mail Flats

4.1 Preparing Critical Mail Flats in Trays

When mailing 200 or more Critical Mail flats in one mailing, prepare Critical Mail flats in USPS-provided flats trays with green lids, place the mail with addresses facing upward in the same direction. Place pieces in trays to maintain their orientation. The weight of a tray and its contents must not exceed 70 pounds. Cover each tray with the green side of the lid facing up and secure the lid with two straps placed tightly around the width of the tray. Label trays under the applicable flat tray label standards in 335.4.0 and as follows:

a. Line 1: Use L201; for mail originating in ZIP Code areas in Column A, use “MXD” followed by city, state, and 3-digit ZIP Code prefix in Column C (use “MXD” instead of “OMX” in the destination line and ignore Column B).

b. Line 2: “CRITICAL MAIL FLTS WKG.”

c. Line 3: Office of mailing or mailer information.

4.2 Postage for Critical Mail and Priority Mail

When a manifest mailing system is used, Critical Mail and Priority Mail may be entered on the same postage statement, but mailpieces must be presented separately and may not be combined or commingled in the same container.

* * * * *

326 Enter and Deposit

1.0 Deposit

1.1 General

[Revise the text of 1.1 as follows:]

Mailpieces bearing postage evidencing indicia must be deposited in a collection box (except for mailings of 200 or more Critical Mail flats) or at a postal facility within the ZIP Code shown in the indicia, except as permitted under 2.0 or 604.4.5.3. Permit imprint mail must be presented at a Post Office or USPS acceptance site under 604.5.0, or 705.

* * * * *

2.0 Pickup on Demand Service

[Revise the text of 2.0 as follows:]

Pickup on Demand service (see 507.6.0) is available from designated Post Office locations for Priority Mail and Critical Mail flats.

* * * * *

400 Commercial Parcels

* * * * *

402 Elements on the Face of a Mailpiece

* * * * *

2.0 Placement and Content of Markings

[Revise the title and introductory text of 2.1 as follows:]

2.1 Express Mail and Priority Mail Markings

Except for pieces paid using an Express Mail Corporate Account, Merchandise Return Service, or permit imprint, Express Mail and Priority Mail pieces claiming the commercial base or commercial plus price must bear the appropriate commercial price marking, printed on the piece or produced as part of the meter imprint or PC Postage indicia. Place the marking directly above, directly below, or to the left of the postage. Express Mail pieces must be marked “Express Mail,” by using a mailing label according to 415.2.1. Priority Mail pieces must bear the marking of “Priority Mail” prominently on the address side of each piece of Priority Mail. See 102.3.0 for more marking options. Markings are as follows:

* * * * *

2.2 Priority Mail Commercial Plus Cubic Markings—PC Postage Indicia

[Revise the first sentence of 2.2 to read as follows:]

Priority Mail pieces claiming the commercial plus cubic price must be marked “Priority Mail” and bear the applicable marking that reflects the respective price tier printed on the piece or produced as part of the meter imprint or PC Postage indicia. * * *

2.3 Priority Mail Commercial Plus Cubic Markings—Permit Imprint

[Revise 2.3 as follows:]

Priority Mail permit imprint pieces claiming the commercial plus cubic price must be marked “Priority Mail” and bear the applicable marking, printed on the piece or produced as part of the permit imprint indicia. * * *

* * * * *

410 Express Mail

413 Prices and Eligibility

1.0 Prices and Fees

1.1 Prices Charged Per Piece

[Revise the first sentence of 1.1 as follows:]

Except for Flat Rate Envelopes, Express Mail postage is charged for each addressed piece according to its weight and zone. * * *

1.2 Price Application

[Revise the first and second to last sentence of 1.2 to make envelope plural as follows:]

Except under 1.5, Flat Rate Envelopes, * * * Except for Express Mail Flat Rate Envelopes, Express Mail prices are based on weight and zone. * * *

[Revise the introductory paragraph of item 1.3 as follows:]

1.3 Commercial Base Prices

For Express Mail commercial base prices, see Notice 123—Price List. These prices apply to:

* * * * *

[Revise 1.3 by deleting item “d” in its entirety and reallocate items “e” and “f” as new items d and e.]

[Revise reallocated item d as follows:]

d. Customers using USPS-approved IBI postage meters that print the IBI with the appropriate price marking (see 402.2.1) and who electronically transmit transactional data to USPS and use an approved Express Mail shipping label.

1.4 Commercial Plus Prices

* * * * *

[Revise the title and introductory text of 1.4.1 as follows:]

1.4.1 Eligibility

Commercial plus pricing is available to customers whose cumulative account volume exceeds 5,000 pieces in the previous four quarters or who have a customer commitment agreement with USPS (see 1.4.2) and who are:

* * * * *

[Revise 1.4.1 by adding new item “d” as follows:]

d. Customers using USPS-approved IBI postage meters that print the IBI with the appropriate price marking (see 402.2.1) and who electronically transmit transactional data daily to USPS for all mailpieces and mail categories and use an approved Express Mail shipping label.

1.4.2 New Express Mail Customers

[Revise the last sentence of 1.4.2 as follows:]

* * * Shippers must contact their account manager or the manager, Shipping Support, Shipping Services (see 608.8.0 for address) for additional information.

[Revise title of 1.5 to make envelope plural and revise the paragraph as follows:]

1.5 Flat Rate Envelopes

There are two types of USPS-produced Express Mail Flat Rate Envelopes: A regular-size envelope and a legal-size envelope. Material mailed in USPS-provided Express Mail Flat Rate Envelopes is charged a flat rate, regardless of the actual weight (up to 70 pounds) of the mailpiece or domestic destination. Only USPS-produced Flat Rate Envelopes are eligible for the Flat Rate Envelope price. Custom Designed items are not eligible for flat-rate pricing. When sealing a Flat Rate Envelope, the container flaps must be able to close within the normal folds. Tape may be applied to the flaps and seams to reinforce the container, provided the design of the container is not enlarged by opening the sides and the container is not reconstructed in any way. For prices, see Notice 123—Price List.

* * * * *

[Delete current item 1.9 in its entirety and add new 1.9 as follows:]

1.9 Determining Single-Piece Weight

When determining single-piece weight, express all weights in decimal pounds rounded off to two decimal places (except mailers using eVS). When using a manifest mailing system, the manifest weight field must be properly completed by adhering to the rules relative to the specific manifest.

* * * * *

3.0 Basic Standards for Express Mail

* * * * *

3.2 Matter Closed Against Postal Inspection

[Revise the first two sentences of 3.2 as follows:]

Matter closed against postal inspection includes First-Class Mail, Priority Mail, (including Critical Mail), and Express Mail. The USPS may open mail other than First-Class Mail, Priority Mail (including Critical Mail), or Express Mail to determine whether the proper price is paid. * * *

* * * * *

414 Postage Payment and Documentation

1.0 Basic Standards for Postage Payment Options

1.1 Commercial Base Pricing

Commercial base Express Mail postage may be paid with:

[Revise 1.1 by deleting item “c” in its entirety and reallocating items as “d” thru “f” as new c through e.]

* * * * *

[Revised reallocated item d as follows:]

d. USPS-approved IBI postage meters that print the IBI with the appropriate price marking (see 402.2.1) and transactional data is electronically transmitted to USPS with an approved Express Mail shipping label.

* * * * *

1.2 Commercial Plus Pricing

[Revise 1.2 as follows:]

Commercial plus Express Mail postage may be paid with:

a. An Express Mail Corporate Account (see 2.0), including federal agency accounts.

b. USPS-approved PC Postage products by registered end-users in conjunction with a qualifying shipping label managed by the PC Postage system used.

c. Permit imprint through the Electronic Verification System (eVS) under 705.2.9.

d. USPS-approved IBI postage meters that print the IBI with the appropriate price marking (see 402.2.1) and transactional data is electronically transmitted daily to USPS for all mailpieces and mail categories with an approved Express Mail shipping label.

* * * * *

420 Priority Mail

423 Prices and Eligibility

1.0 Prices and Fees

1.1 Price Application

[Revise the text of 1.1 as follows:]

The following price applications apply:

a. Priority Mail mailpieces are charged per pound; any fraction of a pound is rounded up to the next whole pound. For example, if a piece weighs 1.25 pounds, the weight (postage) increment is 2 pounds. See exceptions in 1.1c, 1.1d, and 1.1e.

b. Flat-rate prices are not based on weight and zone, but are charged a flat rate regardless of actual weight (up to 70 pounds) of the mailpiece and domestic destination.

c. The minimum postage amount per addressed piece is the 1-pound price. Except for:

1. Items mailed in flat-rate packaging.

2. Items eligible for commercial plus cubic pricing.

3. Regional Rate Boxes.

4. Commercial plus items weighing up to ½-pound (charge the ½-pound price for commercial plus items up to ½-pound. Items over ½-pound are rounded up to the next whole pound).

d. Commercial plus cubic prices are not based on weight, but are charged per cubic measurement of the mailpiece and zone and any fraction of a measurement is rounded down to the nearest 0.25 inch. For example, if a dimension of a commercial plus cubic piece measures 12.375 inches, it is rounded down to 12.25 inches.

e. Regional Rate Box prices are not based on weight but are priced based on the particular USPS-produced Box A or Box B and the zone to which it is sent.

f. Priority Mail items mailed under a specific customer agreement are charged according to the individual agreement.

[Revise item 1.2 as follows:]

1.2 Commercial Base Prices

1.2.1 Commercial Base Price Eligibility

For prices, see Notice 123—Price List. The commercial base prices are available for:

a. Click-N-Ship customers.

b. Registered end-users of USPS-approved PC Postage products when using a qualifying shipping label managed by the PC Postage system used.

c. Customers using permit imprint.

d. Priority Mail Open and Distribute customers using permit imprint when a Service barcode containing a unique service type code 55 is on the address label under 705.16.5.7. Priority Mail Open and Distribute is not available for customers using Regional Rate Boxes.

e. Customers using USPS-approved IBI postage meters that print the IBI with the appropriate price marking (see 402.2.1) and electronically transmit transactional data to USPS.

f. Permit holders using Merchandise Return Service (MRS) for Priority Mail mailpieces when all MRS requirements are met (507.11.0).

1.2.2 Regional Rate Box Prices

Regional Rate Box prices are available to Priority Mail commercial base and commercial plus customers who use USPS-produced Priority Mail Regional Rate Boxes and meet the requirements in 1.2.1. Prices are based on USPS-produced Box A or Box B and zone. Regional Rate Boxes exceeding the maximum weight per Box A or Box B (identified below) will be assessed Priority Mail commercial base or commercial plus (volume thresholds apply) prices based on weight and zone. Regional Rate Box options are:

a. Box A: (Side loading or top loading box) has a maximum weight limit of 15 pounds.

b. Box B: (Side loading or top loading box) has a maximum weight limit of 20 pounds.

1.3 Commercial Plus Prices

[Revise title and text of 1.3.1 as follows:]

1.3.1 Commercial Plus Price Eligibility

For prices, see Notice 123—Price List. Commercial plus prices are available to Priority Mail customers who qualify for commercial base prices and whose cumulative account volume exceeds 75,000 total pieces or 5,000 letter-size and flat-size pieces in the previous calendar year (except Priority Mail Open and Distribute) or who have a customer commitment agreement with USPS, and are:

a. Registered end-users of USPS-approved PC Postage products.

b. Permit imprint customers.

c. Priority Mail Open and Distribute (PMOD) customers whose account volume exceeds 600 PMOD containers (see 705.16.5.1).

d. Permit holders using MRS for Priority Mail items.

e. Customers using USPS-approved IBI postage meters that print the IBI with the appropriate price marking (see 402.2.1) and electronically transmit transactional data daily to USPS for all mailpieces and mail categories.

* * * * *

1.4 Commercial Plus Cubic

[Revise title and text of 1.4.1 as follows:]

1.4.1 Commercial Plus Cubic Eligibility

Commercial plus cubic prices are available to Priority Mail customers whose account volumes exceed 250,000 pieces in the previous calendar year or who have a customer commitment agreement with USPS. Each mailpiece must measure .50 cubic foot or less, weigh 20 pounds or less, and the longest dimension may not exceed 18 inches. Cubic-priced mailpieces may not be rolls or tubes. The commercial plus cubic prices are available for:

a. Registered end-users of USPS-approved PC Postage products.

b. Permit imprint customers. Customers are required to use the Electronic Verification System (eVS) program or submit an electronic postage statement with a computerized manifest under 705.2.0. Mailings must contain at least 200 pieces or 50 pounds of mail. Mailpieces are not required to be identical in weight.

c. Permit holders using Merchandise Return Service for parcels returned at Priority Mail prices.

* * * * *

1.4.3 Determining Cubic Tier Measurements for Rectangular and Nonrectangular Parcels

Follow these steps to determine the cubic tier measurement for rectangular and nonrectangular parcels:

[Revise items 1.4.3a and b as follows:]

a. Measure the length, width, and height in inches. Round down (see 604.7.0) each measurement to the nearest ¼ inch. For example, 6⅛″ × 5⅞″ × 6⅜″ is rounded down to 6″ × 5¾″ × 6¼″.

b. Multiply the length by the width by the height and divide by 1728. For example: 6″ × 5¾″ × 6¼″ = 215.6 divided by 1728 = 0.125 (This piece exceeds 0.10—Tier 1 threshold). It is calculated at Tier 2-0.101 to 0.20.

* * * * *

1.7 Flat Rate Envelopes and Boxes

* * * * *

[Revise 1.7.1 as follows:]

1.7.1 Flat Rate Envelopes—Price and Eligibility

USPS-produced Priority Mail Flat Rate Envelopes are priced at a flat rate regardless of the actual weight (up to 70 pounds) of the mailpiece or domestic destination. See Notice 123—Price List for applicable prices.

* * * * *

[Renumber current items 1.9 and 1.10 as new 1.10 and 1.11 and add new 1.9 as follows:]

1.9 Hold For Pickup

Under Hold For Pickup service, Priority Mail items are held at a designated Post Office location for pick up by a specified addressee or designee (see 508.7, Hold For Pickup).

[Revise the last sentence of renumbered 1.10 as follows:]

1.10 Determining Single-Piece Weight

* * * Express all single-piece weights in decimal pounds rounded off to two decimal places except mailers using eVS. Mailers using eVS may round off to four decimals, and eVS will automatically round to the appropriate decimal place. If a customer is using a manifest mailing system, the manifest weight field must be properly completed by adhering to the rules relative to the specific manifest.

* * * * *

3.0 Basic Standards for Priority Mail

3.1 Definition

[Revise the last sentence of 3.1 by adding Regional Rate Boxes as follows:]

* * * Lower weight limits apply to commercial plus cubic (see 1.4); Regional Rate Boxes (see 1.2.2); Critical Mail (see 223 and 323); APO/FPO mail subject to 703.2.0 and 703.4.0; and Department of State mail subject to 703.3.0.

* * * * *

3.3 Matter Closed Against Postal Inspection

[Revise the first two sentences of 3.3 as follows:]

Matter closed against postal inspection includes First-Class Mail, Priority Mail (including Critical Mail), and Express Mail. USPS may open mail other than First-Class Mail, Priority Mail (including Critical Mail), or Express Mail to determine whether the proper postage is paid. * * *

424 Postage Payment and Documentation

1.0 Basic Standards for Postage Payment

1.1 Postage Payment Options

[Revise the title and introductory paragraph of 1.1.1 as follows:]

1.1.1 Commercial Base and Regional Rate Box Pricing

Priority Mail commercial base and Regional Rate Box postage may be paid with:

* * * * *

[Delete current items 1.1.1c and d in their entirety. Add new item c, and redesignate current items e and f as new d and e, as follows:]

* * * * *

c. Permit imprint.

[Revise redesignated 1.1.1d as follows:]

d. USPS-approved IBI postage meters that print the IBI with the appropriate price marking (see 402.2.1) and electronically transmit transactional data to USPS.

* * * * *

1.1.2 Commercial Plus Pricing

Priority Mail commercial plus postage may be paid with:

* * * * *

[Delete current items 1.1.2b and c in their entirety and replace with new items b through d as follows:]

b. Permit imprint.

c. Merchandise Return Service (MRS) when pieces are returned at Priority Mail prices and all MRS requirements are met (507.11.0).

d. USPS-approved IBI postage meters that print the IBI with the appropriate price marking (see 402.2.1) and electronically transmit transactional data daily to USPS for all mailpieces and mail categories.

1.1.3 Commercial Plus Cubic Pricing

Commercial plus cubic prices may be paid with:

* * * * *

[Revise 1.1.3 by adding new item “c” as follows:]

c. MRS when pieces are returned at Priority Mail prices and all MRS requirements are met (507.11.0).

* * * * *

425 Mail Preparation

* * * * *

3.0 Preparation

3.2 Preparing a Permit Imprint Mailing

[Revise 3.2 as follows:]

To use a permit imprint, the pieces must be of identical weight and, unless all the pieces are in a weight category for which the price does not vary by zone, the pieces must be separated by zone when presented to the Post Office.

* * * * *

426 Enter and Deposit

1.0 Time and Location of Deposit

[Revise text of 1.0 as follows:]

Mailpieces bearing postage evidencing indicia must be deposited in a collection box or at a postal facility within the ZIP Code shown in the indicia, except as permitted under 2.0 or 604.4.5.3. Permit imprint mail must be presented at a Post Office or USPS acceptance site under 604.5.0, or 705.

* * * * *

430 First-Class Mail

433 Prices and Eligibility

* * * * *

3.0 Basic Standards for First-Class Mail Parcels

3.2 Defining Characteristics

* * * * *

[Add new item 3.2.6 as follows:]

3.2.6 Hold For Pickup

Under Hold For Pickup service, only First-Class Mail parcels are held at a designated Post Office location for pick up by a specified addressee or designee (see 508.7).

* * * * *

450 Parcel Select

453 Prices and Eligibility

1.0 Prices and Fees

* * * * *

1.4 Computing Postage

1.4.1 Determining Single-Piece Weight

[Revise the last sentence of 1.4.1 as follows:]

* * * Except for mailers using eVS, when determining single-piece weight for Parcel Select mailpieces, express all weights in decimal pounds rounded off to two decimal places. Mailers using eVS may round off to four decimals, and eVS will automatically round to the appropriate decimal place. If a customer is using a manifest mailing system, the manifest weight field must be properly completed by adhering to the rules relative to the specific manifest.

* * * * *

3.0 Price Eligibility for Parcel Select

* * * * *

[Add new item 3.7 as follows:]

3.7 Hold For Pickup

Under Hold For Pickup service, only Parcel Select barcoded, nonpresorted parcels are held at a designated Post Office location for pick up by a specified addressee or designee (see 508.7).

* * * * *

455 Mail Preparation

* * * * *

4.0 Preparing Destination Entry Parcel Select

4.1 Preparing Destination Delivery Unit (DDU) Parcel Select

* * * * *

[Delete items of 4.1.4—Hold For Pickup Endorsement, Exhibit 4.1.4e, and Exhibit 4.1.4g in their entirety.]

* * * * *

500 Additional Mailing Services

503 Extra Services

* * * * *

2.0 Registered Mail

* * * * *

2.2 Basic Information About Registered Mail

* * * * *

2.2.2 Eligible Matter

[Revise the first sentence of 2.2.2 as follows:]

Only mailable matter prepaid with postage at the First-Class Mail or Priority Mail (excluding Critical Mail) prices may be sent as Registered Mail. * * *

* * * * *

2.2.4 Ineligible Matter

Registration may not be obtained for mail that is handled as follows:

* * * * *

[Add new item 2.2.4g as follows:]

g. Critical Mail

* * * * *

3.0 Certified Mail

* * * * *

3.2 Basic Information

* * * * *

3.2.2 Eligible Matter

[Revise the text of 3.2.2 as follows:]

Only mailable matter prepaid with postage at First-Class Mail or Priority Mail (excluding Critical Mail) prices may be accepted as Certified Mail.

* * * * *

4.0 Insured Mail

* * * * *

4.2 Basic Information

* * * * *

4.2.2 Eligible Matter

The following types of mail may be insured:

[Revise item a as follows:]

a. First-Class Mail and Priority Mail (including Critical Mail), if it contains matter that is eligible to be mailed at Standard Mail or Package Services prices.

* * * * *

5.0 Certificate of Mailing

* * * * *

5.2 Basic Information

* * * * *

5.2.2 Eligible Matter—Single Piece

[Revise the text of 5.2.2 as follows:]

Form 3817 is used for a certificate of mailing for a First-Class Mail, Priority Mail (excluding Critical Mail) or Package Services single mailpiece. Facsimile forms also may be used.

* * * * *

5.2.4 Eligible Matter—Bulk Quantities

[Revise the first two sentences of 5.2.4 as follows:]

Form 3606 is used for a certificate of bulk mailing to specify the number of pieces mailed. This certificate is provided only for a mailing of identical pieces of First-Class Mail, Priority Mail (excluding Critical Mail), Standard Mail, and Package Services. * * *

* * * * *

6.0 Return Receipt

* * * * *

6.2 Basic Information

* * * * *

6.2.2 Eligible Matter

Return receipt service is available for:

* * * * *

[Revise item b as follows:]

b. First-Class Mail and Priority Mail (excluding Critical Mail) when purchased at the time of mailing with Certified Mail, COD, insured mail (for more than $200.00), or Registered Mail service.

* * * * *

7.0 Restricted Delivery

* * * * *

7.2 Basic Information

* * * * *

7.2.2 Eligible Matter

Restricted delivery service is available for:

[Revise item a as follows:]

a. First-Class Mail and Priority Mail (excluding Critical Mail) when purchased at the time of mailing with Certified Mail, COD, insured mail (for more than $200.00), or Registered Mail service.

* * * * *

8.0 Return Receipt for Merchandise

* * * * *

8.2 Basic Information

* * * * *

8.2.2 Eligible Matter

[Revise item 8.2.2 as follows:]

Return receipt for merchandise is available for merchandise sent as Priority Mail (excluding Critical Mail), Standard Mail machinable and irregular parcels, Package Services, and Parcel Select pieces.

* * * * *

9.0 Delivery Confirmation

* * * * *

9.2 Basic Information

* * * * *

9.2.2 Eligible Matter

[Revise the first sentence of the introductory text of 9.2.2 as follows:]

Delivery Confirmation is available for First-Class Mail parcels; all Priority Mail pieces (including Critical Mail); Standard Mail prepared as Not Flat-Machinable pieces or as machinable or irregular parcels (electronic option only); and Package Services or Parcel Select parcels under 401.1.0. * * *

* * * * *

10.0 Signature Confirmation

* * * * *

10.2 Basic Information

* * * * *

10.2.2 Eligible Matter

[Revise the first sentence of the introductory text of 10.2.2 as follows:]

Signature Confirmation is available for First-Class Mail parcels; all Priority Mail pieces (including Critical Mail); and Package Services or Parcel Select parcels under 401.1.0. * * *

* * * * *

11.0 Collect on Delivery (COD)

* * * * *

11.2 Basic Information

* * * * *

11.2.2 Eligible Matter

[Revise the introductory sentence of 11.2.2 as follows:]

COD service may be used for Express Mail, First-Class Mail, Priority Mail (excluding Critical Mail), and any Package Services or Parcel Select sub-category if:

* * * * *

12.0 Special Handling

* * * * *

12.2 Basic Information

* * * * *

12.2.2 Availability

[Revise the text of 12.2.2 as follows:]

Special handling service is available only for First-Class Mail, Priority Mail (excluding Critical Mail), Package Services, and Parcel Select pieces.

* * * * *

[Revise the title and text of 12.2.6 as follows:]

12.2.6 Parcel Select—Nonmachinable Parcels

The Parcel Select nonmachinable surcharge is not charged on parcels sent with special handling.

* * * * *

508 Recipient Services

1.0 Recipient Options

* * * * *

[Delete current 1.3, Parcel Select DDU Hold For Pickup Endorsement, in its entirety, and renumber current 1.4 through 1.9 as new 1.3 through 1.8.]

* * * * *

4.0 Post Office Box Service

* * * * *

4.6 Fee Group Assignments

4.6.1 Regular Fee Groups

[Revise 4.6.1 as follows:]

For Post Office box fee groups, see Notice 123-Price List. Post Office boxes are assigned to fee groups based upon the classification of the Post Office location as competitive or market dominant. Local Post Offices can provide information about fees for a particular ZIP Code.

* * * * *

4.8 Keys and Locks

4.8.1 Key Deposit

[Revise the first two sentences of 4.8.1 as follows:]

Two Post Office box keys are initially issued to each new box customer. Except for PO Boxes classified as Group C1, which has no key deposit for the first two keys, box customers must pay a refundable key deposit on each of these keys. * * *

[Renumber current 7.0 through 9.0 as new 8.0 through 10.0, and add new 7.0 as follows:]

7.0 Hold For Pickup

7.1 Fees and Postage

7.1.1 Postage Payment Methods

Hold For Pickup service is available to mailers using the “Hold For Pickup” label when postage is paid by:

a. Click-N-Ship.

b. Registered end-users of USPS-approved PC Postage products.

c. Permit imprint.

d. USPS-approved Information-Based Indicia (IBI) postage meters.

7.1.2 Electronic Labels

When customers privately print an electronic “Hold For Pickup” label and exchange electronic files with USPS through an approved file transfer protocol (FTP), they qualify for the electronic Delivery Confirmation price (see Notice 123—Price List).

7.2 Basic Information

7.2.1 Description

Hold For Pickup service allows eligible mailpieces to be held at a designated Post Office location for pick up by a specified addressee or designee. When the mailer has provided contact information to the destination Post Office pickup location, the customer is notified by email that a package is available for pickup. This service provides the shipper with the date and time that the addressee took possession of the item. If the item has not been picked up within 5 days, the Post Office will make a second attempt to notify the addressee. The item will be returned to the sender if not picked up within 15 days.

7.2.2 Basic Eligibility

Hold For Pickup service is available with Express Mail under 113 and 413. Hold For Pickup service is also available with online and commercial mailings of Priority Mail (except Critical Mail), First-Class Mail parcels, and Parcel Select barcoded, nonpresorted parcels when:

a. Mailpieces bear the Hold For Pickup label.

b. Mailpieces bear an Intelligent Mail package barcode encoded with a correct ZIP+4 Code, matching the address and meeting the standards in 708.5.0.

c. At a minimum, one of the authorized extra services must be combined with Hold For Pickup service. If adding insurance for $200 or less, one of the other authorized extra services must be added, which provides required tracking for the service.

7.2.3 Additional Eligibility Standards

Parcels must meet these additional physical requirements:

a. The surface area of the address side of the parcel must be large enough to completely and legibly contain the delivery address, return address, postage, markings, endorsements, and extra service labels.

b. Except as provided in 7.2.3c, First-Class Mail parcels and Parcel Select barcoded, nonpresorted parcels must be greater than ¾ inch thick at the thickest point.

c. If the mailpiece is a First-Class Mail parcel or Parcel Select barcoded, nonpresorted parcel under 401.1.0 and no greater than ¾ inch thick, the contents must be prepared in a container that is constructed of strong, rigid fiberboard or similar material or in a container that becomes rigid after the contents are enclosed and the container is secured. The parcel must be able to maintain its shape, integrity, and rigidity throughout processing and handling without collapsing into a letter-size or flat-size piece.

7.2.4 Service Options

The Hold For Pickup service options are:

a. Retail option: Available at Post Office locations for Express Mail at the time of mailing (see 113.4.2.5 and 113.4.3.4).

b. Electronic option: For Express Mail commercial mailings, see 413.4.2.4 and 413.4.3.4. The electronic option is available for Priority Mail (excluding Critical Mail), First-Class Mail parcels, and Parcel Select barcoded, nonpresorted parcels. Mailers must establish an electronic link with USPS to exchange acceptance and delivery data. No mailing receipt is provided with this option. If the electronic option is requested for Hold For Pickup service for all of the pieces in the mailing and the mailing consists of pieces of identical weight, then postage may be paid by any method in 7.1.1, subject to the applicable standards. If the pieces are not of identical weight, then either the exact postage must be affixed to each piece or postage must be paid with permit imprint under a manifest mailing system using eVS (705.2.9).

7.2.5 Ineligible Matter

Hold For Pickup service is not available for the following:

a. First-Class Mail letter-size and flat-size pieces.

b. Critical Mail.

c. Periodicals.

d. Standard Mail.

e. Package Services.

f. Parcel Select destination entry, NDC Presort, and ONDC presort pieces.

g. Mailpieces with precanceled stamps.

h. Mail addressed to APO/FPO and DPO destinations.

7.2.6 Extra Services

Hold For Pickup service may be combined with:

a. Delivery Confirmation.

b. Insured mail.

c. Signature Confirmation.

7.3 Preparation Definitions and Instructions

Except for Express Mail Hold For Pickup presented at retail Post Office locations, mailers or their agents must prepare mailpieces bearing the “Hold For Pickup” label as follows:

a. Enter mailpieces at the Priority Mail, First-Class Mail parcel, or Parcel Select barcoded, nonpresorted price (see Notice 123—Price List).

b. Exchange electronic files with USPS through an approved file transfer protocol to notify the addressee when a parcel is available for pickup at the designated Post Office location and to notify the mailer or agent that items are available to be picked up as “return to sender.”

c. Affix a properly formatted address label that has been approved by the National Customer Support Center (NCSC) (see 608.8.1 for address).

d. In addition to the markings defined in 508.7, address labels on a Hold For Pickup mailpiece must contain the elements below.

1. The top portion of the address label must contain the service banner in the left corner and the postage indicia aligned in the right corner.

2. Centered on the line below the service banner and postage indicia, the words USPS and the applicable mail class must appear in at least 24-point type and in all capital letters. For example, “USPS PRIORITY MAIL.”

3. Below the mail class marking, the word “From:” followed below by the return address of the mailer or agent must appear in at least 10-point type.

4. In the center of the label, the words “HOLD FOR PICKUP” must appear in reverse print (white print on a black background) in at least 24-point type and in all capital letters.

5. Below the words “HOLD FOR PICKUP,” the following addressee information appears: “HOLD FOR: (Contact Required _ ID Purposes Only).” Immediately below, the name and address for the customer (the “addressee”) must appear in at least 10-point type.

6. In the center of the label immediately above the Post Office location, the words “PICKUP LOCATION” must appear in reverse print in at least 12-point type and in all capital letters.

7. The lower half of the address label must contain an approved Intelligent Mail package barcode encoded with a correct ZIP+4 Code, matching the address and meeting the standards in 708.5.0 or an integrated barcode (which combines a confirmation service with an eligible combination) as defined in Publication 91, Confirmation Services Technical Guide.

* * * * *

600 Basic Standards for All Mailing Services

601 Mailability

* * * * *

6.0 Mailing Containers—Special Types of Envelopes and Packaging

* * * * *

[Renumber current 6.2 through 6.5 as new 6.3 through 6.6 and add new 6.2 as follows:]

6.2 Critical Mail Envelopes

Critical Mail letter-size and flat-size envelopes are provided by USPS and must be used only for Critical Mail. Use of these envelopes is restricted to eligible matter and postage payment methods (see 224.1.1 and 324.1.1). Matter mailed in USPS-produced Critical Mail envelopes that do not meet the criteria for Critical Mail are charged the appropriate Priority Mail Commercial Plus Flat Rate Envelope prices (volume thresholds apply).

* * * * *

602 Addressing

1.0 Elements of Addressing

* * * * *

1.5 Return Addresses

* * * * *

1.5.3 Required Use of Return Addresses

The sender's domestic return address must appear legibly on:

* * * * *

[Revise the text of 1.5.3e as follows:]

e. Priority Mail (including Critical Mail).

* * * * *

604 Postage Payment Methods

* * * * *

5.0 Permit Imprint (Indicia)

5.1 General Standards

5.1.1 Definition

[Revise the first and second sentence of 5.1.1 as follows:]

A mailer may be authorized to mail material without affixing postage when payment is made at the time of mailing from a permit imprint advance deposit account established with USPS for that purpose. This payment method may be used for postage and extra service fees for Express Mail (electronic verification system “eVS” only), Priority Mail (including Critical Mail), First-Class Mail, Standard Mail, Package Services, and Parcel Select. * * *

* * * * *

5.3 Indicia Design, Placement, and Content

* * * * *

5.3.5 Marking Expedited Handling on Standard Mail

[Revise the introductory paragraph of 5.3.5 by adding Critical Mail as follows:]

Except for postcard-size mail and permit imprint indicia placed on address labels, indicia on Standard Mail pieces bearing references to expedited handling or delivery (e.g., “Critical Mail,” “Priority,” “Express,” “Overnight”) must:

* * * * *

[Revise the title and first three sentences of 5.3.6 as follows:]

5.3.6 Express Mail, Priority Mail, Critical Mail, and First-Class Mail Format

A permit imprint indicia on Express Mail, Priority Mail, Critical Mail, or First-Class Mail, must show “Express Mail,” “Priority Mail” (or “Priority”), “Critical Mail,” or “First-Class Mail” as applicable; “U.S. Postage Paid”; city and state; and permit number. If the Electronic Verification System (eVS) is used under 705.2.9, the marking “eVS” (or the alternative “e-VS” or “E-VS”) must appear directly below the permit number. The “Express Mail,” “Priority Mail” (or “Priority”), or “Critical Mail” marking may be omitted when using USPS-provided Express Mail, Priority Mail, and Critical Mail envelopes and containers. * * *

* * * * *

7.0 Computing Postage

7.1 General Standards

7.1.1 Determining Single-Piece Weight for Retail and Commercial Mail

[Revise the last sentence of 7.1.1 as follows:]

* * * Express all single-piece weights in decimal pounds rounded off to two decimal places.

* * * * *

7.1.3 Rounding Numerical Values

[Revise 7.1.3 by adding new item c as follows:]

For these standards:

* * * * *

c. Round down requires eliminating any digits to the right of the last number to be kept (e.g., rounding down either 3.371 or 3.379 to two decimal places yields 3.37).

608 Postal Information and Resources

* * * * *

8.0 USPS Contact Information

8.1 Postal Service

* * * * *

[Revise the text of 8.1 by adding new department, Integrated Business Solutions, in alphabetical order as follows:]

Integrated Business Solutions, Shipping Services, US Postal Service, 475 L'Enfant Plz., SW., Rm 5149, Washington, DC 20260-5149.

* * * * *

[Replace Sales and Communication, Expedited Shipping as follows:]

Shipping Support, Shipping Services, US Postal Service, 475 L'Enfant Plz., SW., Rm 5437, Washington, DC 20260-0001.

* * * * *

We will publish an appropriate amendment to 39 CFR part 111 to reflect these changes.

Neva R. Watson,
Attorney, Legislative.

[FR Doc. 2010-28119 Filed 11-5-10; 8:45 am]

BILLING CODE 7710-12-P